DEPARTMENT OF LABOR

Employment and Training Administration

[TA-W-85,674]

Levi Strauss & Co., Eugene, Oregon; Notice of Affirmative Determination Regarding Application for Reconsideration

By application dated on February 6, 2015, a state workforce official requested administrative reconsideration of the negative determination regarding workers' eligibility to apply for worker adjustment assistance applicable to workers and former workers of Levi Strauss & Company, Eugene, Oregon. The determination was issued on January 14, 2015 and the Notice of Determination was published in the Federal Register on February 18, 2015 (80 FR 8692).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The initial investigation resulted in a negative determination based on the findings that worker separations at Levi Strauss & Co., Eugene, Oregon are not attributable to increased imports of articles or a shift in production of articles to a foreign country.

The request for reconsideration asserts that although the workers are engaged in service-related activities, the workers perform production forecasting activities and order management support of Levi Strauss' production of clothing and apparel. The reconsideration application concludes that both activities drive production and has been shifted to a foreign country.

The Department of Labor has carefully reviewed the request for reconsideration and the existing record, and has determined that the Department will conduct further investigation to determine if the workers meet the eligibility requirements of the Trade Act of 1974.

Conclusion

After careful review of the application, I conclude that the claim is of sufficient weight to justify reconsideration of the U.S. Department of Labor's prior decision. The application is, therefore, granted.

Signed at Washington, DC, this 10th day of March 2015.
Michael W. Jaffe,
Certifying Officer, Office of Trade Adjustment Assistance.

[FR Doc. 2015-07237 Filed 3-30-15; 8:45 am]

BILLING CODE 4510-FN-P